DEPARTMENT OF DEFENSE

Department of the Navy

Record of Decision for the Proposed Modernization and Expansion of Townsend Bombing Range, Georgia

AGENCY: Department of the Navy, DoD.

ACTION: Notice of Record of Decision.

SUMMARY: Pursuant to Section (102)(2)(c) of the National Environmental Policy Act (NEPA) of 1969 (42 United States Code [U.S.C.] 4321-4370h); the Council on Environmental Quality regulations for implementing the procedural provisions of NEPA (40 CFR parts 1500-1508); Department of the Navy (DoN) Procedures for Implementing NEPA (32 CFR part 775); and United States Marine Corps (USMC) NEPA directives (Marine Corps Order P5090.2A), the DoN announces its decision to modernize and expand Townsend Bombing Range (TBR) in Long and McIntosh Counties, Georgia. The DoN has decided to implement Alternative 4, the Preferred Alternative, to include acquisition of Acquisition Areas 1B and 3.

To support this decision, DoN will implement the following four actions: (1) Acquire Acquisition Areas 1B and 3 (28,630 acres); (2) terminate a 3,007-acre timber easement held by McIntosh County on DoN-owned land within the current TBR boundary; (3) modify Restricted Area R-3007 airspace by extending the current 100-foot floor to ground level over the land to be acquired (Acquisition Areas 1B and 3) to match the existing restricted airspace over the current range; and (4) construct infrastructure to support precision-guided munitions (PGM) training, including Target Areas 1, 2, 3, 4, 5, and 8. This modernization and expansion of TBR to accommodate inert PGM training will significantly enhance USMC east coast aviation unit training efficiency. Presently, TBR can accommodate only 47% of the required F/A-18 Hornet individual fixed-wing air crew air-to-ground training syllabus. The Proposed Action will allow air crews to meet up to 85% of their air-to-ground proficiency requirements at TBR. All practical means to avoid or minimize environmental impacts resulting from implementation of the Preferred Alternative that were identified in the EIS have been adopted.

SUPPLEMENTARY INFORMATION: The complete text of the Record of Decision is available for public viewing on the project Web site at http://www.townsendbombingrangeeis.com along with the EIS. For further information, contact Marine Corps Air Station Beaufort Public Affairs Officer, Captain Jordan Cochran, 596 Geiger Blvd. MCAS Beaufort, SC 29904 at 843-228-6123.

Dated: January 27, 2014.
N. A. Hagerty-Ford,
Commander, Office of the Judge Advocate General, U.S. Navy, Federal Register Liaison Officer.

[FR Doc. 2014-01947 Filed 1-30-14; 8:45 am]

BILLING CODE 3810-FF-P